DEPARTMENT OF JUSTICE

Notice of Lodging of Consent Decree Pursuant to the Clean Air Act (“CAA”)

Consistent with the policy set forth in the Department of Justice regulations at 28 CFR 50.7, notice is hereby given that on July 12, 2001, a proposed Consent Decree was lodged with the United States District Court for the Southern District of Illinois, in United States and State of Illinois v. Clark Refining and Marketing, Inc., Civil Action No. 99-87 (GPM). The proposed Consent Decree settles claims asserted by the United States on behalf of the U.S. Environmental Protection Agency, and the State of Illinois, pursuant to section 113(b) of the Clean Air Act, 42 U.S.C. 9613(b), and the federally enforceable State Implementation Plan (“SIP”), in connection with operation of the Clark Refining (now The Premcor Refining Group Inc.) petroleum refinery in Hartford, Illinois.

The Consent Decree requires Premcor to pay $2 million in civil penalties for alleged violation of the Prevention of Significant Deterioration requirements in Part C of the CAA and the implementing regulations at 40 CFR 52.21, as well as violations of SIP emission limits at the refinery's fluid catalytic cracking unit (“FCCU”). The proposed Decree also requires Premcor to install a wet gas scrubber on its FCCU, to control emissions of sulfur dioxide and particulate matter. Additional pollution control measures in the decree include a program that will result in installation of low-NOX or ultra low-NOX burners at selected heaters and boilers at the Hartford refinery.

The Department of Justice will receive written comments relating to the proposed consent Decree for thirty (30) days from the date of publication of this notice. Comments should be directed to the Acting Assistant Attorney General, Environment and Natural Resources Division, U.S. Department of Justice, Washington, DC 20530, and should refer to United States v. Clark Refining and Marketing, Inc., DOJ Reference # 90-5-2-1-2032.

The proposed Consent Decree may be examined at the Office of the United States Attorney for the Southern District of Illinois, 9 Executive Drive, Suite 300, Fairview Heights, Illinois 62208 (contact William E. Coonan, (618) 628-3700), and at the offices of the U.S. Environmental Protection Agency, Region 5, 77 West Jackson Boulevard, Chicago, Illinois 60604-3590 (contact Brian Barwick, (312) 886-6620. Copies may also be obtained by mail from the Department of Justice Consent Decree Library, PO Box 7611, Washington, DC 20044-7611. In requesting copies, please refer to the case name and DOJ reference number an enclose a check in the amount of $9.00 (25 cents per page reproduction cost) payable to the Consent Decree Library.

William D. Brighton,
Assistant Chief, Environmental Enforcement Section, Environment and Natural Resources Division.

[FR Doc. 01-18079 Filed 7-18-01; 8:45 am]

BILLING CODE 4410-15-M